DEPARTMENT OF ENERGY

Federal Energy Regulatory Commission

[Docket No. CP03-87-000]

Overthrust Pipeline Company; Notice of Application

April 15, 2003.

Take notice that on April 7, 2003, Overthrust Pipeline Company, (Overthrust) tendered for filing an abbreviated application pursuant to Section 7(b) of the Natural Gas Act (NGA), as amended, and 18 CFR 157.7 and 157.18, requesting authority to: (1) Abandon the firm service obligation to transport 42,000 Dth per day for Colorado Interstate Gas Company (CIG) and 98,600 Dth per day for Natural Gas Pipeline Company of America (NGPL) and (2) abandon Overthrust's Original Volume No. 1 FERC Gas Tariff effective January 1, 2003.

Overthrust indicates that, by letters dated December 7, 2001, and November 5, 2001, CIG and NGPL, respectively, gave notice of their election to terminate all rights and obligations under their Rate Schedule T service agreements with Overthrust effective January 1, 2003, and requested that Overthrust seek abandonment authority from the Commission.

Overthrust requests authority to abandon the firm-transportation service obligations of CIG and NGPL established pursuant to their service agreements. Since all service under Original Volume No. 1 is proposed to be abandoned, Overthrust will no longer provide service under this tariff.

Overthrust further requests the Commission make its approval to abandon Overthrust's Original Volume No. 1 FERC Gas Tariff effective January 1, 2003.

Overthrust states that it does not propose to abandon, retire or modify any facilities as a result of the Commission granting the requested abandonment authorization.

Overthrust states that it will continue to provide transportation service under its First Revised Volume No. 1-A FERC Gas Tariff as approved by the Commission pursuant to 18 CFR part 284, subparts B and G.

Any person desiring to be heard or to protest said filing should file a motion to intervene or a protest with the Federal Energy Regulatory Commission, 888 First Street, NE., Washington, DC 20426, in accordance with sections 385.314 or 385.211 of the Commission's rules and regulations. All such motions or protests must be filed on or before the comment date. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment Date: May 6, 2003.

Magalie R. Salas,
Secretary.

[FR Doc. 03-9811 Filed 4-21-03; 8:45 am]

BILLING CODE 6717-01-P